INTERNATIONAL TRADE COMMISSION

[Investigation No. 337-TA-452]

Certain Personal Watercraft and Components Thereof; Notice of a Commission Determination Not To Review an Initial Determination Terminating the Investigation on the Basis of a Settlement Agreement

AGENCY: International Trade Commission.

ACTION: Notice.

SUMMARY: Notice is hereby given that the U.S. International Trade Commission has determined not to review the presiding administrative law judge's (“ALJ's”) initial determination (“ID”) granting a joint motion to terminate the above-captioned investigation on the basis of a settlement agreement.

FOR FURTHER INFORMATION CONTACT: Timothy P. Monaghan, Esq., Office of the General Counsel, U.S. International Trade Commission, 500 E Street, SW., Washington, DC 20436, telephone 202-205-3152. Copies of all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS-ON-LINE) at http://dockets.usitc.gov/eol/public.

SUPPLEMENTARY INFORMATION: The Commission instituted this investigation, which concerns allegations of unfair acts in violation of section 337 of the Tariff Act of 1930 in the importation and sale of certain personal watercraft and components thereof on March 9, 2001, based on a complaint filed by Yamaha Hatsudoki Kabushiki Kaisha, dba Yamaha Motor Company, Ltd., and Sanshin Kogyo Kabushi Kaisha, dba Sanshin Industries, Ltd. (collectively, “Yamaha”) of Japan. 66 FR 14937. The respondents named in the notice of investigation are Bombardier, Inc. of Canada and Bombardier Motor Corporation of America of Wausau, Wisconsin (collectively “Bombardier”). Yamaha's complaint alleged that Bombardier's products infringed claims of 11 different patents held by Yamaha.

On May 13, 2002, Yamaha and Bombardier entered into a settlement agreement, and on May 24, 2002, Yamaha and Bombardier filed a joint motion to terminate the investigation on the basis of that settlement agreement. The Commission investigative attorney supported the joint motion. On June 3, 2002, the presiding ALJ issued an ID (Order No. 105) granting the motion to terminate the investigation. No party petitioned for review of the ID.

The authority for the Commission's determination is contained in section 337 of the Tariff Act of 1930, as amended (19 U.S.C. 1337), and in § 210.42 of the Commission's rules of practice and procedure (19 CFR 210.42).

Issued: June 20, 2002.
By order of the Commission.
Marilyn R. Abbott,
Secretary to the Commission.

[FR Doc. 02-15968 Filed 6-24-02; 8:45 am]

BILLING CODE 7020-02-P